DEPARTMENT OF VETERANS AFFAIRS

38 CFR Parts 38 and 39

RIN 2900-AQ28

Government-Furnished Headstones, Markers, and Medallions; Unmarked Graves

AGENCY: Department of Veterans Affairs.

ACTION: Final rule; correction.

SUMMARY: On August 6, 2021, the Department of Veterans Affairs (VA) published in the Federal Register a final rule that amended regulations regarding the provision of Government-furnished headstones, markers, and medallions to eligible individuals. This correction addresses minor technical errors in the published final rule and revises the amendatory text to correct a section reference.

DATES: This correction is effective September 7, 2021.

FOR FURTHER INFORMATION CONTACT: Jane Kang, Director, Legislative and Regulatory Service, National Cemetery Administration (42E), Department of Veterans Affairs, 810 Vermont Avenue NW, Washington, DC 20420, (202) 461-6216 (this is not a toll-free telephone number).

SUPPLEMENTARY INFORMATION: VA is correcting its final rule 2900-AQ28, Government-Furnished Headstones, Markers, and Medallions; Unmarked Graves to fix technical errors and dropped amendments, published on August 6, 2021, in the Federal Register at 86 FR 43091.

In FR Rule Doc. No. 2021-16660, beginning on page 43091 in the August 6, 2021 issue, make the following corrections.

Corrections

1. On page 43092 in the regulatory framework chart, in the column titled “Location of applicable provisions in the final regulation,” line 3, remove “§ 38.600)a)(1)-(a)(9)” and add “38.600(a)” in its place.

§ 38.600 [Corrected]

2. On page 43098, column 1, line 10, in § 38.600(b), remove “paragraphs (a)(1) through (9)” and add “paragraph (a)” in its place.

§ 38.630 [Corrected]

3. On page 43100, column 1, line 16, in § 38.630(c)(1)(ii), remove “§ 38.600(a)(8)” and add § 38.600(a)” in its place.

Dated: August 20, 2021
Jeffrey M. Martin,
Assistant Director, Office of Regulation Policy & Management, Office of the Secretary, Department of Veterans Affairs.

[FR Doc. 2021-18285 Filed 8-24-21; 8:45 am]

BILLING CODE 8320-01-P